DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with no changes to Form EIA-111, “Quarterly Electricity Imports and Exports Report,” under OMB Control Number 1905-0208. The collection will collect U.S. electricity import and export data for the purpose of measuring the flow of electricity into and out of the United States from Canada and Mexico.

DATES: EIA must receive all comments on this proposed information collection no later than April 27, 2018. If you anticipate any difficulties in submitting your comments by the deadline, contact the DOE Desk Officer at 202-395-4718.

ADDRESSES: Written comments should be sent to:

DOE Desk Officer: James Tyree, Office of Information and Regulatory Affairs, Office of Management and Budget, New Executive Office Building, Room 9249, 735 17th Street NW, Washington, DC 20503, James.N.Tyree@omb.eop.gov

and to

Tosha Beckford, U.S. Department of Energy, U.S. Energy Information Administration, 1000 Independence Ave. SW, Washington, DC 20585, Electricity2018@eia.gov.

FOR FURTHER INFORMATION CONTACT: Requests for additional information or copies of the information collection instrument and instructions, should be directed to Tosha Beckford at 202-287-6597, or email it to Tosha.Beckford@eia.gov. You can view Form EIA-111, Quarterly Electricity Imports and Exports Report online at https://www.eia.gov/survey/#eia-111.

SUPPLEMENTARY INFORMATION:

This information collection request contains:

(1) OMB No.: 1905-0208.

(2) Information Collection Request Title: Quarterly Electricity Imports and Exports Report.

(3) Type of Request: Three-year extension.

(4) Purpose: Form EIA-111 collects U.S. electricity import and export data. The data are used to generate accurate estimates of the flow of electricity into and out of the United States from Canada and Mexico. The import and export data are reported by U.S. purchasers, sellers, and transmitters of wholesale sales of electricity, including persons authorized by Presidential Permit to construct, operate, maintain, or connect electric power transmission lines that cross the U.S. international border, and U.S. Balancing Authorities that are interconnected with foreign Balancing Authorities. Such entities report monthly flows of electricity received or delivered across the U.S. border, the cost associated with the transactions, and actual and implemented interchange.

(5) Annual Estimated Number of Respondents: 176.

(6) Annual Estimated Number of Total Responses: 704.

(7) Annual Estimated Number of Burden Hours: 1,056.

(8) Annual Estimated Reporting and Recordkeeping Cost Burden: The cost of the burden hours is estimated to be $79,929 (1,056 burden hours times $75.69 per hour). EIA estimates that there are no additional costs to respondents associated with the surveys other than the costs associated with the burden hours.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC, on March 13, 2018.
Nanda Srinivasan,
Director, Office of Survey Development and Statistical Integration, U.S. Energy Information Administration.

[FR Doc. 2018-06192 Filed 3-27-18; 8:45 am]

BILLING CODE 6450-01-P